DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of the RTCA Program Management Committee.

DATES: The meeting will be held March 21, 2012, from 8:30 a.m.-1:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Program Management Committee. The agenda will include the following:

March 21, 2012

• Welcome, Introductions, and Administrative Remarks

• Review/Approve Meeting Summary

• December 13, 2011, RTCA Paper No. 015-12/PMC-954

• Publication Consideration Approval

• Final Draft, Supplement to DO-312, Safety, Performance and Interoperability Requirements Document for the In-Trail Procedure in Oceanic Airspace (ATSA-ITP) Application, RTCA Paper No. 027-12/PMC-959, prepared by SC-186

• Final Draft, New Document—Minimum Operational Performance Standards (MOPS) for Solid-State Strap-Down Attitude and Heading Systems (AHRS), RTCA Paper No. 022-12/PMC-957, prepared by SC-219

• Final Draft, New Document—Guidance for Installation of Automatic Flight Guidance and Control Systems for Part 23 Airplanes, RTCA Paper No.018-12/PMC-956, prepared by SC-220

• Final Draft, New Document—Guidance for Certification of an Installed Automatic Flight Guidance and Control Systems for Part 27/29 Rotorcraft, RTCA Paper No. 018-12/PMC-955, prepared by SC-220

• Final Draft, Revised DO-305, Future Air Navigation System 1/A—Aeronautical Telecommunication Network Interoperability Standard (FANS 1/A—ATN B1 Interop Standard), RTCA Paper No. 028-12/PMC-960, prepared by SC-214

• Final Draft, Revised DO-281A, Minimum Operational Performance Standards for Aircraft VDL Mode 2 Physical, Link, and Network Layer, RTCA Paper No. 029-12/PMC-961, prepared by SC-214

• Final Draft, New Document, Aircraft Derived Meteorological Data via ADS-B Data Link for Wake Vortex, Air Traffic Management and Weather Applications—Operational Services and Environmental Definition (OSED), RTCA Paper No. 030-12/PMC-962, prepared by SC-206

• Integration and Coordination Committee (ICC)—Report

• MASPS, SPR Guidance—Update

• Action Item Review

• SC-222—Inmarsat AMS(R)S—Discussion—Review/Approve Revised Terms of Reference

• PMC Ad Hoc—Special Committee Guidance Document—Status

• Discussion

• SC-147—Traffic Alert and Collision Avoidance System—Discussion—Requirements Working Group Report and Proposed Terms of Reference

• SC-220—Automatic Flight Guidance and Control Systems—Discussion—Recommendations for Future Activity and proposed Terms of Reference

• SC-217, Terrain and Airport Databases,—Discussion—Recommendations for Future Activity and Proposed Terms of Reference

• NAC Update

• FAA Actions Taken on Previously Published Documents

• Special Committees—Chairmen's Reports

• Other Business

• Schedule for Committee Deliverables and Next Meeting Date

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 27, 2012.
Kathy Hitt,
Program Analyst, Business Operations Branch, Federal Aviation Administration.

[FR Doc. 2012-5129 Filed 3-1-12; 8:45 am]

BILLING CODE 4910-13-P